DEPARTMENT OF TRANSPORTATION

Federal Aviation Administration

14 CFR Part 71

[Docket No. FAA-2006-24926; Airspace Docket No. 06-ASW-1]

RIN 2120-AA66

Proposed Establishment, Modification and Revocation of VOR Federal Airways; East Central United States

AGENCY: Federal Aviation Administration (FAA), DOT.

ACTION: Notice of proposed rulemaking (NPRM).

SUMMARY: This action proposes to establish 16 VOR Federal Airways (V-65, V-176, V-383, V-396, V-406, V-410, V-414, V-416, V-418, V-426, V-467, V-486, V-542, V-584, V-586, and V-609); modify 13 VOR Federal Airways (V-14, V-26, V-40, V-72, V-75, V-90, V-96, V-103, V-116, V-133, V-297, V-435, and V-526); and revoke one VOR Federal Airway (V-42) over the East Central United States in support of the Midwest Airspace Enhancement Plan (MASE). The FAA is proposing this action to enhance safety and to improve the efficient use of the navigable airspace assigned to the Chicago, Cleveland, and Indianapolis Air Route Traffic Control Centers (ARTCC).

DATES: Comments must be received on or before July 31, 2006.

ADDRESSES: Send comments on this proposal to the Docket Management System, U.S. Department of Transportation, Room Plaza 401, 400 Seventh Street, SW., Washington, DC 20590-0001. You must identify FAA Docket No. FAA-2006-24926 and Airspace Docket No. 06-ASW-1, at the beginning of your comments. You may also submit comments through the Internet at http://dms.dot.gov.

FOR FURTHER INFORMATION CONTACT: Steve Rohring, Airspace and Rules, Office of System Operations Airspace and AIM, Federal Aviation Administration, 800 Independence Avenue, SW., Washington, DC 20591; telephone: (202) 267-8783.

SUPPLEMENTARY INFORMATION:

Comments Invited

Interested parties are invited to participate in this proposed rulemaking by submitting such written data, views, or arguments, as they may desire. Comments that provide the factual basis supporting the views and suggestions presented are particularly helpful in developing reasoned regulatory decisions on the proposal. Comments are specifically invited on the overall regulatory, aeronautical, economic, environmental, and energy-related aspects of the proposal.

Communications should identify both docket numbers (FAA Docket No. FAA-2006-24926 and Airspace Docket No. 06-ASW-1) and be submitted in triplicate to the Docket Management System (see ADDRESSES section for address and phone number). You may also submit comments through the Internet at http://dms.dot.gov.

Commenters wishing the FAA to acknowledge receipt of their comments on this action must submit with those comments a self-addressed, stamped postcard on which the following statement is made: “Comments to FAA Docket No. FAA-2006-24926 and Airspace Docket No. 06-ASW-1.” The postcard will be date/time stamped and returned to the commenter.

All communications received on or before the specified closing date for comments will be considered before taking action on the proposed rule. The proposal contained in this action may be changed in light of comments received. All comments submitted will be available for examination in the public docket both before and after the closing date for comments. A report summarizing each substantive public contact with FAA personnel concerned with this rulemaking will be filed in the docket.

Availability of NPRM's

An electronic copy of this document may be downloaded through the Internet at http://dms.dot.gov. Recently published rulemaking documents can also be accessed through the FAA's Web page at http://www.faa.gov or the Federal Register's Web page at http://www.gpoaccess.gov/fr/index.html.

You may review the public docket containing the proposal, any comments received, and any final disposition in person in the Dockets Office (see ADDRESSES section for address and phone number) between 9 a.m. and 5 p.m., Monday through Friday, except Federal holidays. An informal docket may also be examined during normal business hours at the office of the Regional Air Traffic Division, Federal Aviation Administration, 2601 Meacham Blvd; Fort Worth, TX 76193-0500.

Persons interested in being placed on a mailing list for future NPRM's should contact the FAA's Office of Rulemaking, (202) 267-9677, for a copy of Advisory Circular No. 11-2A, Notice of Proposed Rulemaking Distribution System, which describes the application procedure.

Background

In April of 1996, the FAA Administrator announced that the FAA would begin a comprehensive review and redesign of the United States airspace. This endeavor became known as the National Airspace Redesign (NAR) project. The goal of NAR is to increase system flexibility, predictability, and access; maintain and improve safety; improve efficiency; reduce delays; and support the evolution of emerging technologies.

The MASE project is the culmination of the NAR process with regard to aircraft operations in the Cleveland and Detroit terminal areas as well as in the high altitude, en route airspace environment. The purpose of MASE is to develop and implement new en route and terminal airspace procedures that would increase efficiency and enhance safety of aircraft movements in the airspace overlying and beyond the Cleveland and Detroit terminal areas. Specifically, the MASE project consists of changes to routes, fixes, altitudes, and holding patterns, as well as the development of new procedures and routes. Overall, MASE focuses on developing and implementing improvements in the air navigation structure and operating methods to allow more flexible and efficient management of aircraft operations over the East Central United States.

The Proposal

The FAA is proposing to amend Title 14 Code of Federal Regulations (14 CFR) part 71 to establish 16 VOR Federal Airways (V-65, V-176, V-383, V-396, V-406, V-410, V-414, V-416, V-418, V-426, V-467, V-486, V-542, V-584, V-586, and V-609); modify 13 VOR Federal Airways (V-14, V-26, V-40, V-72, V-75, V-90, V-96, V-103, V-116, V-133, V-297, V-435, and V-526); and revoke one VOR Federal Airway (V-42) over the East Central United States within the airspace assigned to the Chicago, Cleveland, and Indianapolis ARTCCs. These actions are proposed as part of MASE to enhance safety and to facilitate the more flexible and efficient use of the navigable airspace. Further, this action would enhance the management of aircraft operations within the Chicago, Cleveland, and Indianapolis ARTCCs' areas of responsibility.

VOR Federal Airways are published in paragraph 6010 of FAA Order 7400.9N, dated September 1, 2005, and effective September 15, 2005, which is incorporated by reference in 14 CFR 71.1. The VOR Federal Airways listed in this document would be published subsequently in the Order.

The FAA has determined that this proposed regulation only involves an established body of technical regulations for which frequent and routine amendments are necessary to keep them operationally current. Therefore, this proposed regulation: (1) Is not a “significant regulatory action” under Executive Order 12866; (2) is not a “significant rule” under Department of Transportation (DOT) Regulatory Policies and Procedures (44 FR 11034; February 26, 1979); and (3) does not warrant preparation of a regulatory evaluation as the anticipated impact is so minimal. Since this is a routine matter that will only affect air traffic procedures and air navigation, it is certified that this proposed rule, when promulgated, will not have a significant economic impact on a substantial number of small entities under the criteria of the Regulatory Flexibility Act.

List of Subjects in 14 CFR Part 71

Airspace, Incorporation by reference, Navigation (air).

The Proposed Amendment

In consideration of the foregoing, the Federal Aviation Administration proposes to amend 14 CFR part 71 as follows:

PART 71—DESIGNATION OF CLASS A, B, C, D, AND E AIRSPACE AREAS; AIR TRAFFIC SERVICE ROUTES; AND REPORTING POINTS

1. The authority citation for part 71 continues to read as follows:

Authority: 49 U.S.C. 106(g), 40103, 40113, 40120; E.O. 10854, 24 FR 9565, 3 CFR, 1959-1963 Comp., p. 389.

§ 71.1 [Amended]

2. The incorporation by reference in 14 CFR 71.1 of FAA Order 7400.9N, Airspace Designations and Reporting Points, dated September 1, 2005, and effective September 15, 2005, is amended as follows:

Paragraph 6010 VOR Federal Airways.

* * * * *

V-14 [Revised]

From Chisum, NM, via Lubbock, TX; Childress, TX; Hobart, OK; Will Rogers, OK; INT Will Rogers 052° and Tulsa, OK 246° radials; Tulsa; Neosho, MO; Springfield, MO; Vichy, MO; INT Vichy 067° and St. Louis, MO, 225° radials; Vandalia, IL; Terre Haute, IN; Brickyard, IN; Muncie, IN; Findlay, OH; INT Findlay 079°T (081°M) and DRYER, OH, 240°T (245°M) radials; DRYER; Jefferson, OH; Erie, PA; Dunkirk, NY; Buffalo, NY; Geneseo, NY; Georgetown, NY; INT Georgetown 093° and Albany, NY, 270° radials; Albany, NY; INT Albany 084° and Gardner, MA, 284° radials; Gardner; to Norwich, CT.

V-26 [Revised]

From Blue Mesa, CO, via Montrose, CO; 13 miles, 112 MSL, 131 MSL; Grand Junction, CO; Meeker, CO; Cherokee, WY; Muddy Mountain, WY; 14 miles 12 AGL, 37 miles 75 MSL, 84 miles 90 MSL, 17 miles 12 AGL; Rapid City, SD; Philip, SD; Pierre, SD; Huron, SD; Redwood Falls, MN; Farmington, MN; Eau Claire, WI; Waussau, WI; Green Bay, WI; INT Green Bay 116° and White Cloud, MI 302° radials; White Cloud; Lansing, MI; Salem, MI; Detroit, MI; INT Detroit 138°T (144°M) and DRYER, OH, 309°T (314°M) radials; DRYER. The airspace within Canada is excluded.

V-40 [Revised]

From DRYER, OH; Briggs, OH; INT Briggs 077°T (081°M) and Youngstown, OH, 177°T (182°M) radials.

V-72 [Revised]

From Razorback, AR, Dogwood, MO; INT Dogwood 058° and Maples, MO 236° radials; Maples; Farmington, MO; Centralia, IL; Bible Grove, IL; Mattoon, IL; to Bloomington, IL.

V-75 [Revised]

From Morgantown, WV; Bellaire, OH; Briggs, OH; DRYER, OH; INT DRYER 325°T (330°M) and Waterville, OH, 062°T (064°M) radials.

V-90 [Revised]

From Salem, MI; INT Salem 092°T (095°M) and Dunkirk, NY 260°T (267°M) radials; Dunkirk. The airspace within Canada is excluded.

V-96 [Revised]

From Brickyard, IN; Kokomo, IN; Fort Wayne, IN; INT Fort Wayne 071°T (071°M) and Detroit, MI, 211°T (217°M) radials; to Detroit.

V-103 [Revised]

From Chesterfield, SC; Greensboro, NC; Roanoke, VA; Elkins, WV; Clarksburg, WV; Bellaire, OH; INT Bellaire 327° and Akron, OH, 181° radials; Akron; INT Akron 325°T (329°M) and Detroit, MI, 100°T (106°M) radials; Detroit; Pontiac, MI, to Lansing, MI. The airspace within Canada is excluded.

V-116 [Revised]

From INT Chicago O'Hare, IL, 092° and Chicago Heights, IL, 013° radials; INT Chicago O'Hare 092° and Keeler, MI, 256° radials; Keeler; Kalamazoo, MI; INT Kalamazoo 089° and Jackson, MI, 265° radials; Jackson; INT Jackson 089° and Salem, MI, 252° radials; Salem; Windsor, ON, Canada; INT Windsor 095°T (101°M) and Erie, PA, 281°T (287°M) radials; Erie; Bradford, PA; Stonyfork, PA; INT Stonyfork 098° and Wilkes-Barre, PA, 310° radials; Wilkes-Barre; INT Wilkes-Barre 084° and Sparta, NJ, 300° radials; to Sparta. The airspace within Canada is excluded.

V-133 [Revised]

From INT Charlotte, NC, 305° and Barretts Mountain, NC, 197° radials; Barrets Mountain; Charleston, WV; Zanesville, OH; Tiverton, OH; Mansfield, OH; INT Mansfield 351°T (354°M) and Detroit, MI 138°T (144°M) radials; Detroit; Salem, MI; INT Salem 346° and Saginaw, MI 160° radials; Saginaw; Traverse City, MI; Escanaba, MI; Sawyer, MI; Houghton, MI; Thunder Bay, ON, Canada; International Falls, MN; to Red Lake, ON, Canada. The airspace within Canada is excluded.

V-297 [Revised]

From Johnstown, PA; INT Johnstown 320° and Clarion, PA, 176° radials; INT Johnstown 315° and Clarion, PA, 222° radials; INT Clarion 269° and Youngstown, OH 116° radials; Akron, OH; INT Akron 305°T (309°M) and Waterville, OH 062°T (064°M) radials. The airspace within Canada is excluded.

V-435 [Revised]

From Rosewood, OH; INT Rosewood 050°T (055°M) and DRYER, OH, 240°T (245°M) radials; to DRYER.

V-526 [Revised]

From Northbrook, IL; INT Northbrook 095° and Gipper, MI, 310° radials; to Gipper.

V-42 [Revoked]

V-65 [New]

From DRYER, OH; INT Sandusky, OH 288°T (292°M) and Carleton, MI 157°T (160°M) radials; to Carleton.

V-176 [New]

From Detroit, MI; INT Detroit 178°T (184°M) and Rosewood, OH, 023°T (028°M) radials; Rosewood.

V-383 [New]

From Carleton, MI; INT Carleton 097°T (100°M) and Chardon, OH, 294°T (299°M) radials; INT Chardon 294°T (299°M) and DRYER, OH 357°T (002°M) radials. The airspace within Canada is excluded.

V-396 [New]

From Windsor, ON, Canada; INT Windsor 095°T (101°M) and Chardon, OH, 320°T (325°M) radials; to Chardon. The airspace within Canada is excluded.

V-406 [New]

From Salem, MI; INT Salem 092°T (095°M) and London, ON, Canada, 205°T (213°M) radials; London. The airspace within Canada is excluded.

V-410 [New]

From London, ON, Canada; INT London 252°T (260°M) and Pontiac, MI, 085°T (088°M) radials; to Pontiac. The airspace within Canada is excluded.

V-414 [New]

From London, ON, Canada; INT London 252°T (260°M) and Windsor, ON, Canada, 034°T (040°M) radials; to Windsor. The airspace within Canada is excluded.

V-416 [New]

From Rosewood, OH, INT Rosewood 041°T (046°M) and Mansfield, OH, 262°T (265°M) radials; Mansfield; INT Mansfield 045°T (048°M) and Sandusky, OH, 107°T (111°M) radials.

V-418 [New]

From Salem, MI; INT Salem 092°T (095°M) and Jamestown, NY, 275°T (282°M) radials; to Jamestown. The airspace within Canada is excluded.

V-426 [New]

From DRYER, OH; INT DRYER 260°T (265°M) and Carleton, MI, 156°T (159°M) radials; to Carleton.

V-467 [New]

From Detroit, MI; Waterville, OH; Richmond, IN.

V-486 [New]

From Jamestown, NY; INT Jamestown 238°T (245°M) and Chardon, OH, 074°T (079°M) radials; Chardon; INT Chardon 260°T (265°M) and Akron, OH, 316°T (320°M) radials.

V-542 [New]

From Rosewood, OH, INT Rosewood 041°T (046°M) and Mansfield, OH, 262°T (265°M) radials; Mansfield; INT Mansfield 098° and Akron, OH, 233° radials; Akron; Youngstown, OH; Tidioute, PA; Bradford, PA; INT Bradford 078° and Elmira, NY, 252° radials; Elmira; Binghampton, NY; Rockdale, NY; Albany, NY; Cambridge, NY; INT Cambridge 063° and Lebanon, NH, 214° radials; to Lebanon.

V-584 [New]

From Waterville, OH; INT Waterville 113°T (115°M) and DRYER, OH 260°T (265°M) radials; to DRYER.

V-586 [New]

From INT Kansas City, MO 077° and Napoleon, MO, 005° radials, via Macon, MO; Quincy, IL; Peoria, IL; Pontiac, IL; Joliet, IL.

V-609 [New]

From Saginaw, MI; INT Saginaw 353° and Pellston, MI, 164° radials; to Pellston.

* * * * *

Issued in Washington, DC, on June 8, 2006.
Edith V. Parish,
Manager, Airspace and Rules.

[FR Doc. E6-9371 Filed 6-15-06; 8:45 am]

BILLING CODE 4910-13-P